DEPARTMENT OF COMMERCE

National Oceanic and Atmospheric Administration

[I.D. 121304A]

Proposed Information Collection; Comment Request; Southwest Region Vessel Identification Requirements

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 14, 2005.

ADDRESSES: Direct all written comments to Diana Hynek, Departmental Paperwork Clearance Officer, Department of Commerce, Room 6625, 14th and Constitution Avenue, NW, Washington, DC 20230 (or via the Internet at DHynek@doc.gov).

FOR FURTHER INFORMATION CONTACT: Requests for additional information or copies of the information collection instrument and instructions should be directed to Alvin Katekaru, PacificIslands Regional Office, NMFS, 1601 Kapiolani Blvd., Honolulu, HI 96814 (phone 808-973-2937).

SUPPLEMENTARY INFORMATION:

I.Abstract

Regulations at 50 CFR part 660.16 require that all vessels with Federal permits to fish in the Southwest display the vessel's official number. Regulations at 50 CFR part 300.35 require that vessels in the South Pacific tuna purse seine fishery must display their international radio call sign on the hull, the deck, and on the sides of auxiliary equipment such as skiffs and helicopters. The numbers must be a specific size at specified locations. The display of the identifying number aids in fishery law enforcement.

II. Method of Collection

No information is collected.

III. Data

OMB Number: 0648-0361.

Form Number: None.

Type of Review: Regular submission.

Affected Public: Business or other for-profit organizations, and individuals or households.

Estimated Number of Respondents: 1,481.

Estimated Time Per Response: 45 minutes (15 minutes for each of three markings) for non-purse seine vessels; and 1 hour and 15 minutes for purse seine vessels.

Estimated Total Annual Burden Hours: 1,130.

Estimated Total Annual Cost to Public: 17,000.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d)ways to minimize the burden of the collection of information on respondents, including through the use of automated collection techniques or other forms of information technology.

Comments submitted in response to this notice will be summarized and/or included in the request for OMB approval of this information collection; they also will become a matter of public record.

Dated: December 9, 2004.
Gwellnar Banks,
Management Analyst, Office of the Chief Information Officer.

[FR Doc. 04-27557 Filed 12-15-04; 8:45 am]

BILLING CODE 3510-22-S